DEPARTMENT OF JUSTICE

Antitrust Division

Notice Pursuant to the National Cooperative Research and Production Act of 1993—Network Centric Operations Industry Consortium, Inc.

Notice is hereby given that, on February 18, 2009, pursuant to Section 6(a) of the National Cooperative Research and Production Act of 1993, 15 U.S.C. 4301 et seq. (“the Act”) Network Centric Operations Industry Consortium, Inc. has filed written notifications simultaneously with the Attorney General and the Federal Trade Commission disclosing changes in its membership. The notifications were filed for the purpose of extending the Act's provisions limiting the recovery of antitrust plaintiffs to actual damages under specified circumstances. Specifically, Assistant Secretary of Defense for Networks & Information Integration and Department of Defense Chief Information Officer, Washington, DC; MIT Lincoln Laboratory, Lexington, MA; and Dataline, LLC, McLean, VA have been added as parties to this venture.

Also, Sikorsky Aircraft, Stratford, CT; Ericsson Federal Inc., Columbia, MD; Motorola, Inc., Schaumburg, IL; Institute for Defense Analyses, Alexandria, VA; Insta Group, Tampere, Finland; DataPath, Inc., Duluth, GA; Management and Engineering Technologies International, Inc., El Paso, TX; CAE, St-Laurent, Quebec City, CANADA; U.S. Department of Defense, Defense Information Systems Agency, Falls Church, VA; Meteksan Defence Industry Inc., Ankara, TURKEY; and Iridium Satellite LLC, Bethesda, MD have withdrawn as parties to this venture. In addition, ITT Industries changed its name to ITT Corporation, White Plains, NY. In the past ninety (90) days, the Joint Venture learned that MilSOFT Yazilirn Teknolojileri A.S., Ankara, Turkey did not change its name to MilSOFT ICT-Iletisim Teknolojileri A.S., as noted in the Joint Venture's notification filed under the Act on October 12, 2007. Rather, in October of 2007, MilSOFT Yazilim Teknolojileri A.S. transferred its membership in the Joint Venture to MilSOFT ICT-Iletisim Teknolojileri A.S., Ankara, Turkey, an affiliate and sister company of MilSOFT Yazilim Teknolojileri A.S.

No other changes have been made in either the membership or planned activity of the group research project. Membership in this group research project remains open, and Network Centric Operations Industry Consortium, Inc. intends to file additional written notifications disclosing all changes in membership.

On November 19, 2004, Network Centric Operations Industry Consortium, Inc. filed its original notification pursuant to Section 6(a) of the Act. The Department of Justice published a notice in the Federal Register pursuant to Section 6(b) of the Act on February 2, 2005 (70 FR 5486).

The last notification was filed with the Department on November 26, 2008. A notice was published in the Federal Register pursuant to Section 6(b) of the Act on December 31, 2008 (73 FR 80430).

Patricia A. Brink,
Deputy Director of Operations, Antitrust Division.

[FR Doc. E9-6374 Filed 3-25-09; 8:45 am]

BILLING CODE